DEPARTMENT OF COMMERCE

International Trade Administration, North American Free-Trade Agreement (NAFTA), Article 1904 Binational Panel Reviews

AGENCY: NAFTA Secretariat, United States Section, International Trade Administration, Department of Commerce.

ACTION: Notice of decision of panel.

SUMMARY: On November 19, 2002, the binational panel issued its decision in the review of the final scope ruling made by the International Trade Administration, respecting Circular Welded Non-Alloy Steel Pipe from Mexico, NAFTA Secretariat File Number USA-MEX-98-1904-05. The majority remanded the determination to the investigating authority with the following instructions: (1) Re-evaluate whether the Order applies to Galvak's mechanical tubing, giving appropriate weight to the fact that the language of the order on its face excludes all mechanical tubing, (2) if necessary, explain adequately why the line pipe determination's conclusion that the exclusionary clause is based on industry classification and not actual end use should not be employed in the instant scope determination, and (3) take such other action as may be appropriate, not inconsistent with this decision. The panel required DOC to provide the determination on remand within 60 calendar days (January 6, 2003). Copies of the panel decision are available from the U.S. Section of the NAFTA Secretariat.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a request for panel review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These rules were published in the Federal Register on February 23, 1994 (59 FR 8686). The panel review in this matter has been conducted in accordance with these rules.

Panel Decision: The panel remanded the final scope determination of the International Trade Administration respecting Circular Welded Non-Alloy Steel Pipe from Mexico with instructions as listed above. The determination on remand is due on January 20, 2003.

Dated: November 19, 2002.
Caratina L. Alston,
U.S. Secretary, NAFTA Secretariat.

[FR Doc. 02-29811 Filed 11-25-02; 8:45 am]

BILLING CODE 3510-GT-P